DEPARTMENT OF COMMERCE

National Oceanic and Atmospheric Administration

[I.D. 060800C]

Marine Mammals

AGENCY: National Marine Fisheries Service (NMFS), National Oceanic and Atmospheric Administration (NOAA), Commerce.

ACTION: Issuance of photography permit no. 963-1535.

SUMMARY: Notice is hereby given that Wild Things Photography, P.O. Box 34517, 4474 Julep Street, Juneau, Alaska 99803, has been issued a permit to take by Level B harassment one species, harbor seal (Phoca vitulina), of non-threatened, non-endangered marine mammals for purposes of commercial photography.

ADDRESSES: The permit and related documents are available for review upon written request or by appointment in the following offices:

Permits Division, Office of Protected Resources, NMFS,

1315 East-West Highway, Room 13130, Silver Spring, MD 20910 (301/713-2289); and

Regional Administrator, Alaska Region, 709 W. 9th Street, Federal Building Room 461, P.O. Box 21668, Juneau, AK 99802 (907/586-7235).

SUPPLEMENTARY INFORMATION: On November 23, 1999, notice was published in the Federal Register (64 FR 65687) that the above-named applicant had submitted a request for a permit to take one species of marine mammals by Level B harassment during the course of commercial photographic activities in Glacier Bay National Park, Alaska. The requested permit has been issued, under the authority of § 104(c)(6) of the Marine Mammal Protection Act of 1972, as amended (16 U.S.C. 1361 et seq.).

Dated: June 27, 2000.
Ann D. Terbush,
Chief, Permits and Documentation Division, Office of Protected Resources, National Marine Fisheries Service.

[FR Doc. 00-16935 Filed 7-3-00; 8:45 am]

BILLING CODE 3510-22-F